DEPARTMENT OF LABOR

Employment and Training Administration

Notice of Determinations Regarding Eligibility To Apply for Worker Adjustment Assistance and Alternative Trade Adjustment Assistance

In accordance with section 223 of the Trade Act of 1974, as amended (19 U.S.C. 2273) the Department of Labor herein presents summaries of determinations regarding eligibility to apply for a trade adjustment assistance for workers (TA-W) number and alternative trade adjustment assistance (ATAA) by TA-W number issued during the period of May 19 through May 23, 2008.

In order for an affirmative determination to be made for workers of a primary firm and a certification issued regarding eligibility to apply for worker adjustment assistance, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

None

The following certifications have been issued. The requirements of section 222(a)(2)(B) (shift in production) of the Trade Act have been met.

TA-W-63,058; Mizuno Automotive USA, Inc., A Subsidiary of Mizuno Tekkosho Co., LLC, Morristown, TN: March 24, 2007.

The following certifications have been issued. The requirements of section 222(b) (supplier to a firm whose workers are certified eligible to apply for TAA) of the Trade Act have been met.

None.

The following certifications have been issued. The requirements of section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of section 222(a)(2)(A) (increased imports) and section 246(a)(3)(A)(ii) of the Trade Act have been met.

TA-W-63,092; Sun Chemical, Performance Pigments Division, Cincinnati, OH: January 7, 2008.

TA-W-63,175; R. Klein Jewelry Company, Inc., Rockville Centre, NY: April 9, 2007.

TA-W-63,176; Masonite International Corporation, Mobile, AL: April 29, 2008.

TA-W-63,217; Indian Industries, dba Escalade Sports, Youth Archery Operations and Child Life Play Systems, Evansville, IN: April 16, 2007.

TA-W-63,289; Lakewood Engineering and Manufacturing Co., On-Site Leased Workers From Altas Employment Services, Chicago, IL: April 29, 2007.

TA-W-63,099; WestPoint Home, Former Corporate Employees, West Point, GA: February 22, 2008.

TA-W-63,099A; WestPoint Home, Clemson Centre, Clemson, SC: February 22, 2008.

TA-W-63,099B; WestPoint Home, Wagram Division Office, Wagram, NC: February 22, 2008.

TA-W-63,099C; WestPoint Home, Elkin/Chatham, Elkin, NC: February 22, 2008.

TA-W-62,554; MI Windows and Doors, Inc., J.T. Walker, Including Willstaff Worldwide, Millen, GA: December 10, 2006.

TA-W-62,905; King Systems Corporation, Plastic Technology Div., Noblesville, IN: February 21, 2007.

TA-W-62,974; Leggett and Platt, Inc., Winchester, KY: February 15, 2007.

TA-W-62,974A; Leggett and Platt, Inc., Ferndale, MI: February 15, 2007.

TA-W-63,153; General Electric Company, Chicago Plant Operations, Cicero Calrod Plant, Cicero, IL: April 1, 2007.

TA-W-63,157; MEMC Electronic Materials, St. Peters, MO: April 4, 2007.

TA-W-63,185; Spectrum Yarns, Inc., Kings Mountain Plant Carolina Plant, Kings Mountain, NC: December 13, 2007.

TA-W-63,326; Dellway Sports, Inc., New York, NY: April 17, 2007.

TA-W-63,355; E and L Garment Company, San Francisco, CA: May 8, 2007.

The following certifications have been issued. The requirements of section 222(a)(2)(B) (shift in production) and section 246(a)(3)(A)(ii) of the Trade Act have been met.

TA-W-63,081; Russell Corporation, Cross Creek Apparel, Mount Airy, NC: April 20, 2008.

TA-W-63,196; L.A. Glo, Inc., Los Angeles, CA: April 14, 2007.

TA-W-63,328; The F.B. Leopold Company, Inc., A Subsidiary of ITT Corp., Fiberglass Resin Products, Zelienople, PA: May 5, 2007.

TA-W-61,698; Dan River, Inc., 1325 Avenue of The Americas, New York, New York: November 6, 2006.

TA-W-63,365; Pentair Filtration, Inc., Sheboygan, WI: May 9, 2007.

TA-W-63,398; Chromalox, Inc., Orfordville, WI: May 14, 2007.

TA-W-62,969; Tyco Electronics-Mid, Communications, Computer and Consumer Electronics Division, Rochester, NY: February 28, 2007.

TA-W-63,038; Union Special Corporation, A Subsidiary of Juki Corporation, Huntley, IL: March 19, 2007.

TA-W-63,105; The Bradenton Herald, Ad Production Department, Bradenton, FL: March 25, 2007.

TA-W-63,121; Fairchild Semiconductor Corp., Wafer Sort Department, South Portland, ME: April 2, 2007.

TA-W-63,123; Gerber Plumbing Fixtures LLC, Kokomo Sanitary Pottery Division, Globe Union Industrial Corp., Kokomo, IN: March 2, 2008.

TA-W-63,171; Wesley Mancini, Ltd., Charlotte, NC: April 9, 2007.

TA-W-63,178; Pre-Press/PMG, North Logan, UT: April 8, 2007.

TA-W-63,332; Milwaukee Electric Tool Corporation, Corporation Headquarters, Brookfield, WI: May 6, 2007.

The following certifications have been issued. The requirements of section 222(b) (supplier to a firm whose workers are certified eligible to apply for TAA) and section 246(a)(3)(A)(ii) of the Trade Act have been met.

TA-W-63,347; R.L. Stowe Mills, Inc., Corporate Office, Belmont, NC: May 8, 2007.

TA-W-63,347A; R.L. Stowe Mills, Inc., Corporate Office, Chattanooga, TN: May 8, 2007.

The following certifications have been issued. The requirements of section 222(b) (downstream producer for a firm whose workers are certified eligible to apply for TAA based on increased imports from or a shift in production to Mexico or Canada) and section 246(a)(3)(A)(ii) of the Trade Act have been met.

None

Negative Determinations for Alternative Trade Adjustment Assistance

In the following cases, it has been determined that the requirements of 246(a)(3)(A)(ii) have not been met for the reasons specified.

The Department has determined that criterion (1) of section 246 has not been met. The firm does not have a significant number of workers 50 years of age or older.

TA-W-63,058; Mizuno Automotive USA, Inc., A Subsidiary of Mizuno Tekkosho Co., LLC, Morristown, TN.

The Department has determined that criterion (2) of section 246 has not been met. Workers at the firm possess skills that are easily transferable.

None

The Department has determined that criterion (3) of Section 246 has not been met. Competition conditions within the workers' industry are not adverse.

None

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-63,237; Ven Ply, Inc., High Point, NC.

TA-W-63,321; Valley Mills, Inc., Valley Head, AL.

TA-W-63,410; Comau, Inc., Warren, MI.

The investigation revealed that criteria (a)(2)(A)(I.B.) (Sales or production, or both, did not decline) and (a)(2)(B)(II.B.) (shift in production to a foreign country) have not been met.

TA-W-63,214; Action Mold and Machining, Inc., Grand Rapids, MI.

The investigation revealed that criteria (a)(2)(A)(I.C.) (increased imports) and (a)(2)(B)(II.B.) (shift in production to a foreign country) have not been met.

TA-W-63,047; Boise Wood Products, White City Lumber Mill, White City, OR.

TA-W-63,216; Sartorius Stedim Systems, Inc., A Subsidiary Of Sartorius Stedim North America, Inc., Bethlehem, PA.

TA-W-63,266; Lester Enterprises, Inc., dba LHP Corporation, Hartwell, GA.

TA-W-63,278; Wheeling Pittsburgh Steel Corporation, Allenport, PA.

The workers' firm does not produce an article as required for certification under section 222 of the Trade Act of 1974.

TA-W-62,941; PMI/Diversco, Working On-Site at Genco, Pendergrass, GA.

TA-W-63,104; Paris Accessories, Inc., Allentown, PA.

TA-W-63,104A; Paris Accessories, Inc., New Smithville, PA.

TA-W-63,125; Currier Trucking Corporation, Gorham, NH.

TA-W-63,229; Krohne, Inc., Peabody, MA.

TA-W-63,287; Paulstra CRC, Sales Office, Novi, MI.

TA-W-63,298; HD Supply, Inc., Monroe, NC.

TA-W-63,353; Western Union Financial Services, Inc., Dallas, TX.

The investigation revealed that criteria of section 222(b)(2) has not been met. The workers' firm (or subdivision) is not a supplier to or a downstream producer for a firm whose workers were certified eligible to apply for TAA.

None

I hereby certify that the aforementioned determinations were issued during the period of May 19 through May 23, 2008. Copies of these determinations are available for inspection in Room C-5311, U.S. Department of Labor, 200 Constitution Avenue, NW., Washington, DC 20210 during normal business hours or will be mailed to persons who write to the above address.

Dated: May 28, 2008.
Linda G. Poole.
Certifying Officer, Division of Trade Adjustment Assistance.

[FR Doc. E8-12326 Filed 6-2-08; 8:45 am]

BILLING CODE 4510-FN-P